DEPARTMENT OF AGRICULTURE

Forest Service

Mendocino Resource Advisory Committee

AGENCY: Forest Service, USDA.

ACTION: Notice of meeting.

SUMMARY: The Mendocino County Resource Advisory Committee will meet October 15, 2004, (RAC) in Willits, California. Agenda items to be covered include: (1) Approval of minutes, (2) Public Comment, (3) Sub-committees, (4) Discussion/Approval of projects (Hammerhorn Lake area, Howard Lake area, Travelers Home and Hellhole trails), (5) Matters before the group-discussion/action, (6) Next agenda and meeting date.

DATES: The meeting will be held on October 15, 2004, from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo Road, Covelo CA 95428. (707) 983-8503; e-mail rhurt@fs.fed.us

SUPPLEMENTARY INFORMATION: The meeting is open to the public. Persons who wish to bring matters to the attention of the Committee may file written statements with the Committee staff by October 11, 2004. Public comment will have the opportunity to address the committee at the meeting.

Dated: September 27, 2004.
Blaine Baker,
Designated Federal Official.

[FR Doc. 04-22449 Filed 10-5-04; 8:45 am]

BILLING CODE 3410-11-M